DEPARTMENT OF THE TREASURY

Internal Revenue Service

26 CFR Part 1

[REG-118788-06]

RIN-1545-BF63

Definition of Essential Governmental Function Under Section 7871 and Limitation to Activities Customarily Performed by States and Local Governments; Correction

AGENCY: Internal Revenue Service (IRS), Treasury.

ACTION: Correction to advance notice of proposed rulemaking.

SUMMARY: This document corrects an advance notice of proposed rulemaking (REG-118788-06) that was published in the Federal Register on Wednesday, August 9, 2006 (71 FR 45474), that applies to Indian tribal governments and to State and local governments that issue bonds for the benefit of Indian tribal governments.

FOR FURTHER INFORMATION CONTACT: Aviva M. Roth, (202) 622-4164 (not toll-free numbers).

SUPPLEMENTARY INFORMATION:

Background

The advance notice of proposed rulemaking, (REG-118788-06) that is the subject of this correction is under section 7871 of the Internal Revenue Code.

Need for Correction

As published, REG-118788-06 contains an error that may prove to be misleading and is in need of clarification.

Correction of Publication

Accordingly, the publication of the advance notice of proposed rulemaking (REG-118788-06) that were the subject of FR. Doc. E6-12884, is corrected as follows:

On page 45474, preamble, under the caption “FOR FURTHER INFORMATION CONTACT:”, line 4, the language “Aviva M. Roth, (202) 622-3980 (not toll-” is corrected to read “Aviva M. Roth, (202) 622-4164 (not toll-”.

Guy R. Traynor,
Publications and Regulations Branch, Legal Processing Division, Associate Chief Counsel, (Procedure and Administration).

[FR Doc. E6-15119 Filed 9-12-06; 8:45 am]

BILLING CODE 4830-01-P